ENVIRONMENTAL PROTECTION AGENCY

[ER-FRL-6676-7]

Environmental Impacts Statements; Notice of Availability

Responsible Agency: Office of Federal Activities, General Information (202) 564-7167 or http://www.epa.gov/compliance/nepa/

Weekly receipt of Environmental Impact Statements

Filed 6/19/2006 through 6/23/2006 pursuant to 40 CFR 1506.9.

EIS No. 20060260, Final EIS, BLM, AK, East Alaska Draft Resource Management Plan (RMP), Provide a Single Comprehensive Land Use Plan, Implementation, Glennallen Field Office District, AK, Wait Period Ends: 7/31/2006. Contact: Bruce Rogers 907-822-3217.

EIS No. 20060261, Final EIS, NPS, UT, Burr Trail Modification Project, Proposed Road Modification within Capitol Reef National Park, Garfield County, UT, Wait Period Ends: July 31, 2006, Contact: Chris Turk 303-969-2832.

EIS No. 20060262, Draft EIS, SFW, CA, San Joaquin Valley Operations and Maintenance Program Habitat Conservation Plan, Application for Incidental Take Permits, San Joaquin, Stanislaus, Merced, Fresno, Kings, Kern Mariposa, Madera and Tulare Counties, CA, Comment Period Ends: 9/28/2006, Contact: Lori Rinek 916-414-6600.

EIS No. 20060263, Final EIS, BIA, MI, Nottawaseppi Huron Band of Potawatomi Indians (the Tribe), Proposes Fee-to-Trust Transfer and Casino Project, Calhoun County, MI, Wait Period Ends: 7/31/2006, Contact: Terrance Virden 612-725-4510.

EIS No. 20060264, Draft EIS, AFS, WY, Lower Valley Energy (LVE) Natural Gas Pipeline Project, Construction and Operation of a Pressurized Natural Gas Pipeline, Special-Use-Authorization, Big Piney and Jackson Ranger Districts, Bridger-Teton National Forest, Sublette and Teton Counties, WY, Comment Period Ends: 8/14/2006, Contact: Teresa Trulock 307-276-3375.

EIS No. 20060265, Draft EIS, EPA and BIA, ND, Mandan, Hidatsa and Arikara (MHA) Nation's Proposed Clean Fuels Refinery Project, Construct and Operate a New 15,000 Barrel Per Day Clean Fuels Refinery and Grow Hay for Buffalo, Fort Berthold Indian Reservation, Ward County, ND, Comment Period Ends: 8/29/2006, Contact: Dana Allen 303-312-6870. US EPA and U.S. DOI's BIA are Co-Lead Agencies for the above project. Agencies contact are: Diane-Mann-Klager (BIA) 605-226-7621 and Monica Morales (EPA) 303-312-6936.

EIS No. 20060266, Draft EIS, DOT, TX, North Corridor Fixed Gudeway Project, Propose Transit Improvements from University of Houston (UH)—Downtown Station to Northline Mall, Harris County, TX, Comment Period Ends: 8/14/2006, Contact: John Sweek 817-978-0550.

EIS No. 20060267, Final EIS, BLM, CA, Ukiah Resource Management Plan Implementation, Several Counties, CA, Wait Period Ends: 8/14/2006, Contact: Eli Ilano 916-978-4427.

EIS No. 20060268, Draft EIS, FHW, DC, 11th Street Bridges Project, Anacostia Freeway I-295/DC 295, to the Southeast/Southwest Freeway (I-695) Improvements, Funding, NPDES Permit, U.S. Army COE Section 10 and 404 Permits, Washington, DC, Comment Period Ends: 8/28/2006, Contact: Michael Hicks 202-219-3513.

EIS No. 20060269, Draft Supplemental, COE, MD, Masonville Dredged Material Containment Facility, New Information, New Source of Dike Building Material from the Seagirt Dredging Project within the Patapsco River, Funding, Baltimore, MD, Comment Period Ends: 8/14/2006, Contact: Jon Romeo 410-962-6079.

EIS No. 20060270, Second Draft Supplemental, COE, FL, Cope Sable Seaside Sparrow Protection, Interim Operation Plan (IOP), Additional Information Alternative 7, Providing Additional Flood Control Capacity, Implementation, Everglades National Park, Miami-Dade County, FL, Comment Period Ends: 8/14/2006, Contact: Dr. Jon Moulding 904-232-2286.

EIS No. 20060271, Draft EIS, CGD, 00, PROGRAMMATIC—Implementation of the U.S. Coast Guard Nationwide Automatic Identification System Project, Providing Vessel Identification, Tracking and Information Exchange Capabilities to Support National Maritime Interests, Comment Period Ends: 8/14/2006, Contact: Anita Allen 202-475-3292.

EIS No. 20060272, Draft EIS, COE, NC, West Onslow Beach and New River Inlet (Topsail Beach) Shore Protection Project, Storm Damages and Beach Erosion Reduction, Funding, Pender County, NC, Comment Period Ends: 8/14/2006, Contact: Jenny Owens 910-251-4757.

EIS No. 20060273, Draft EIS, RUS, MT, Highwood Generating Station, 250-megawatt Coal Fired Power Plant and 6MW of Wind Generation at a Site near Great Falls, Construction and Operation, Licenses Permit, U.S. Army COE Section 10 Permit, Cascade County, MT, Comment Period Ends: 8/15/2006, Contact: Richard Fristik 202-720-5093.

Amended Notices

EIS No. 20060184, Draft EIS, COE, MD, Masonville Dredge Material Containment Facility (DMCF), Construction from Baltimore Harbor Channel north of Point-Rock Point Line, U.S. Army COE Section 10 and 404 Permits, Baltimore, MD, Comment Period Ends: 8/14/2006, Contact: Jon Romeo 410-962-6079. Revision to FR Published on 5/19/2006: Comment Period extended from 7/7/2006 to 8/14/2006.

EIS No. 20060218, Draft EIS, FHW, NY, Williamsville Toll Barrier Improvement Project, Improvements from New York Thruway, Interstate 90 between Interchange 48A and 50, Funding, Erie and Genesee Counties, NY, Comment Period Ends: August 21, 2006, Contact: Amy Jackson-Grove 518-431-4125. Revision to FR Notice Published 6/2/2006: Correction to Comment Period from 7/24/2006 to 8/21/2006.

EIS No. 20060220, Draft EIS, BLM, ID, Snake River Birds of Prey National Conservation Area, Resource Management Plan, Implementation, Ada, Canyon, Elmore, Owyhee Counties, ID, Comment Period Ends: 8/31/2006, Contact: Mike O'Donnell 208-384-3315. Revision to FR Notice Published 6/2/2006: Extending Comment Period from 8/17/2006 to 8/31/2006.

Dated: June 28, 2006.
Robert W. Hargrove,
Director, NEPA Compliance Division, Office of Federal Activities.

[FR Doc. E6-10394 Filed 6-30-06; 8:45 am]

BILLING CODE 6560-50-P